LEGAL SERVICES CORPORATION

Sunshine Act Meeting

Time and Date: The Annual Performance Reviews Committee of the Legal Services Corporation's Board of Directors will meet on June 27, 2003. The meeting will begin at 1:30 p.m. and continue until conclusion of the Committee's agenda.

Location: The Latham Hotel, 3000 M Street, NW., Washington, DC.

Status of Meeting: Open.

Matters to be Considered:

1. Approval of agenda.

2. Consider and act on future activities for the Committee.

3. Consider and act on other business.

4. Public comment.

5. Consider and act on adjournment of meeting.

Contact Person for Information: Victor M. Fortuno, Vice President for Legal Affairs, General Counsel and Corporate Secretary, at (202) 295-1500.

Special Needs: Upon request, meeting notices will be made available in alternate formats to accommodate visual and hearing impairments. Individuals who have a disability and need an accommodation to attend the meeting may notify Elizabeth S. Cushing at (202) 295-1500.

Dated: June 20, 2003.
Victor M. Fortuno,
Vice President for Legal Affairs, General Counsel, and Corporate Secretary.

[FR Doc. 03-16064 Filed 6-20-03; 2:17 pm]

BILLING CODE 7050-01-P